POSTAL SERVICE

International Product Change—International Business Reply Service Contract

AGENCY: Postal Service™.

ACTION: Notice.

SUMMARY: Postal Service gives notice of filing a request with the Postal Regulatory Commission to add International Business Reply Service Competitive Contract 3 to the Competitive Products List pursuant to 39 U.S.C. 3642.

DATES: February 25, 2011.

FOR FURTHER INFORMATION CONTACT: Margaret M. Falwell, 202-268-2576.

SUPPLEMENTARY INFORMATION: The United States Postal Service® hereby gives notice that it has filed with the Postal Regulatory Commission a Request of United States Postal Service To Add International Business Reply Service Competitive Contract 3 to the Competitive Products List, and Notice of Filing Contract (Under Seal). Documents are available at http://www.prc.gov, Docket Nos. MC2011-21 and CP2011-59.

Neva R. Watson,
Attorney, Legislative.

[FR Doc. 2011-4209 Filed 2-24-11; 8:45 am]

BILLING CODE 7710-12-P